DEPARTMENT OF ENERGY

Federal Energy Regulatory Commission

Take Notice That the Commission Has Received the Following Natural Gas Pipeline Rate and Refund Report Filings:

Filings Instituting Proceedings

Docket Numbers: RP11-2558-000.

Applicants: Big Sandy Pipeline, LLC.

Description: Big Sandy Pipeline, LLC submits tariff filing per 154.204: 2011-09-01 Negotiated Rate Agreements—EQT Energy to be effective 9/1/2011.

Filed Date: 09/08/2011.

Accession Number: 20110908-5021.

Comment Date: 5 p.m. Eastern Time on Tuesday, September 20, 2011.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP11-2442-001.

Applicants: Central Kentucky Transmission Company.

Description: Central Kentucky Transmission Company submits tariff filing per 154.205(b): ACA Errata 2011 to be effective 10/1/2011.

Filed Date: 09/01/2011.

Accession Number: 20110901-5201.

Comment Date: 5 p.m. Eastern Time on Tuesday, September 13, 2011.

Docket Numbers: RP11-2469-001.

Applicants: Eastern Shore Natural Gas Company.

Description: Eastern Shore Natural Gas Company submits tariff filing per 154.205(b): 2011 ACA Revised to be effective 10/1/2011.

Filed Date: 09/07/2011.

Accession Number: 20110907-5146.

Comment Date: 5 p.m. Eastern Time on Monday, September 19, 2011.

Docket Numbers: RP11-2470-001.

Applicants: Transcontinental Gas Pipe Line Company, LLC

Description: Transcontinental Gas Pipe Line Company, LLC submits tariff filing per 154.205(b): Pascagoula Expansion Non-Conforming Superseding Service Agreement to be effective 9/30/2011.

Filed Date: 09/07/2011.

Accession Number: 20110907-5129.

Comment Date: 5 p.m. Eastern Time on Monday, September 19, 2011.

Docket Numbers: RP11-2308-002.

Applicants: Algonquin Gas Transmission, LLC.

Description: Algonquin Gas Transmission, LLC submits tariff filing per 154.203: Winter Operations Compliance Filing to be effective 9/1/2011.

Filed Date: 09/08/2011.

Accession Number: 20110908-5043.

Comment Date: 5 p.m. Eastern Time on Tuesday, September 20, 2011.

Any person desiring to protest in any the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: September 8, 2011.
Nathaniel J. Davis, Sr.,
Deputy Secretary.

[FR Doc. 2011-23749 Filed 9-15-11; 8:45 am]

BILLING CODE 6717-01-P